DEPARTMENT OF COMMERCE

National Oceanic and Atmospheric Administration

[Docket No. 030602141-6143-38; I.D. 051906D]

RIN 0648-ZB55

Availability of Grant Funds for Fiscal Year 2007; Correction

AGENCY: National Oceanic and Atmospheric Administration (NOAA), Department of Commerce (DOC).

ACTION: Notice; availability of grant funds; correction.

SUMMARY: The National Oceanic and Atmospheric Administration publishes this notice to correct errors contained in a previously published notice of availability of funds (June 12, 2006) for the NMFS-Sea Grant Fellowship Program in Marine Resource Economics, the NMFS-Sea Grant Fellowship Program in Population Dynamics, and the Ballast Water Technology Demonstration Grants Program (Research, Development, Testing and Evaluation Facility). This notice corrects errors concerning the amount of funds available for fellowships, the amount of cost sharing required for those fellowships, and the deadlines for application for those fellowships and grants competitions.

DATES: Final proposals for the Ballast Water Technology Demonstration Program (Research, Development, Testing and Evaluation Facility) must be received by 5 p.m. EST on Tuesday, December 19, 2006.

SUPPLEMENTARY INFORMATION: In the notice of funding availability published in the Federal Register on June 12, 2006 (71 FR 33898) NOAA announced the availability of funding for several grant or cooperative agreement programs. That notice, however, contained several inadvertent errors in the entries for the NMFS-Sea Grant Fellowship Program in Marine Resource Economics, the NMFS-Sea Grant Fellowship Program in Population Dynamics, and the Ballast Water Technology Demonstration Grants Program (Research, Development, Testing and Evaluation Facility). This notice announces the correct information for those programs.

NMFS-Sea Grant Joint Graduate Fellowship Program in Marine Resource Economics and NMFS-Sea Grant Fellowship Program in Population Dynamics

In the June 12, 2006 notice, the entries for the NMFS-Sea Grant Joint Graduate Fellowship Program in Marine Resource Economics, 71 FR 33927, June 12, 2006, and the NMFS-Sea Grant Joint Graduate Fellowship Program in Population Dynamics, 71 FR 33927, June 12, 2006, listed incorrectly the cooperative agreement award amount as $40,000 per year, and the cost share requirement as $6,667 per year. These amounts were inaccurately listed due to a typographical error. For both of these fellowships, the correct cooperative agreement award amount is $38,500 per year, and the correct cost share requirement is $6,417 per year.

Both of these fellowship announcements also suggested that local Sea Grant programs consider setting an internal deadline one week prior to the application deadline. This statement was in error. The Sea Grant programs do not have a specific time interval and none was intended. The correct suggestion to the local Sea Grant programs is that they consider setting an internal deadline prior to the application deadline for these fellowships.

Ballast Water Technology Demonstration Grants Program (Research, Development, Testing and Evaluation Facility)

The June 12, 2006 notice of funding availability also contained an error in the entry for the Ballast Water Technology Demonstration Grants Program (Research, Development, Testing and Evaluation Facility). The June 12, 2006 notice incorrectly listed the full proposal deadline as December 19, 2007 (71 FR 33920, June 12, 2006). The correct full proposal deadline is December 19, 2006.

All other requirements and provisions listed in the June 12, 2006 notice for these programs remain unchanged.

Classification

Pre-Award Notification Requirements for Grants and Cooperative Agreements

The Department of Commerce Pre-Award Notification Requirements for Grants and Cooperative Agreements contained in the Federal Register notice of December 30, 2004 (69 FR 78389), are applicable to this solicitation.

Paperwork Reduction Act

This document contains collection-of-information requirements subject to the Paperwork Reduction Act (PRA). The use of Standard Forms 424, 424A, 424B, SF-LLL, and CD-346 has been approved by the Office of Management and Budget (OMB) under the respective control numbers 0348-0043, 0348-0044, 0348-0040, 0348-0046, and 0605-0001. Notwithstanding any other provision of law, no person is required to respond to, nor shall any person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/ Regulatory Flexibility Act

Prior notice and an opportunity for public comment are not required by the Administrative Procedure Act or any other law for rules concerning public property, loans, grants, benefits, and contracts (5 U.S.C. 553(a)(2)).

Because notice and opportunity for comment are not required pursuant to 5 U.S.C. 553 or any other law, the analytical requirements of the Regulatory Flexibility Act (5 U.S.C. 601 et seq.) are inapplicable. Therefore, a regulatory flexibility analysis has not been prepared.

Dated: July 26, 2006.
Mark E. Brown,
Chief Financial Officer, Office of Oceanic and Atmospheric Research, National Oceanic and Atmospheric Administration.

[FR Doc. E6-12285 Filed 8-7-06; 8:45 am]

BILLING CODE 3510-12-P